DEPARTMENT OF COMMERCE

International Trade Administration

[C-570-212, C-560-845, C-552-852]

Hardwood and Decorative Plywood From the People's Republic of China, Indonesia, and the Socialist Republic of Vietnam: Postponement of Preliminary Determinations in the Countervailing Duty Investigations

AGENCY: Enforcement and Compliance, International Trade Administration, Department of Commerce.

DATES: Applicable July 22, 2025.

FOR FURTHER INFORMATION CONTACT: Rebecca Janz (the People's Republic of China (China)), Samuel Evans (Indonesia), and Sofia Pedrelli (the Socialist Republic of Vietnam (Vietnam)), AD/CVD Operations, Enforcement and Compliance, International Trade Administration, U.S. Department of Commerce, 1401 Constitution Avenue NW, Washington, DC 20230; telephone: (202) 482-2972, (202) 482-2420, and (202) 482-4310, respectively.

SUPPLEMENTARY INFORMATION:

Background

On June 11, 2025, the U.S. Department of Commerce (Commerce) initiated countervailing duty (CVD) investigations of U.S. imports of hardwood and decorative plywood from China, Indonesia, and Vietnam (collectively, the investigations).¹ Currently, the preliminary determinations in the investigations are due no later than August 15, 2025.

¹ See Hardwood and Decorative Plywood from the People's Republic of China, Indonesia, and the Socialist Republic of Vietnam: Initiation of Countervailing Duty Investigations, 90 FR 25225 (June 16, 2025).

Postponement of Preliminary Determinations

Section 703(b)(1) of the Tariff Act of 1930, as amended (the Act), requires Commerce to issue the preliminary determination in a CVD investigation within 65 days after the date on which Commerce initiated the investigation. However, section 703(c)(1) of the Act permits Commerce to postpone the preliminary determination in a CVD investigation until no later than 130 days after the date on which Commerce initiated the investigation if: (A) the petitioner makes a timely request for an extension of the period within which the determination must be made; or (B) Commerce concludes that the parties concerned are cooperating, that the investigation is extraordinarily complicated, and that additional time is necessary to make the preliminary determination. Under 19 CFR 351.205(e), if the petitioner seeks postponement of a preliminary determination in a CVD investigation, it must submit its request for postponement 25 days or more before the scheduled date of the preliminary determination and must state the reasons for the request. Commerce will grant the request unless it finds compelling reasons to deny the request.

On July 7, 2025, the Coalition for Fair Trade in Hardwood Plywood, the petitioner of these investigations, timely requested that Commerce postpone the deadline for it to issue the preliminary determinations in the investigations.² The petitioner requested postponement of the preliminary determinations in the investigations so that Commerce can fully analyze the forthcoming questionnaire responses of the mandatory respondents and issue supplemental questionnaires, as necessary.³

² See Petitioner's Letter, “Request for Extension of Preliminary Determination Deadline,” dated July 7, 2025.

³ Id.

In accordance with 19 CFR 351.205(e), the petitioner submitted its requests for postponement of the preliminary determinations in the investigations 25 days or more before the scheduled date of the preliminary determinations and stated the reasons for its requests. Accordingly, Commerce finds no compelling reason to deny the requests. Therefore, in accordance with section 703(c)(1)(A) of the Act, Commerce is postponing the deadline for the preliminary determinations in the investigations to no later than 130 days after the date on which it initiated the investigations. The postponed deadline for the preliminary determinations is October 20, 2025.⁴

⁴ Postponing the preliminary determinations to 130 days after initiation of the investigations would make the deadline on Sunday, October 19, 2025. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

Pursuant to section 705(a)(1) of the Act and 19 CFR 351.210(b)(1), the deadline for the final determinations in the investigations will continue to be 75 days after the date of the preliminary determinations.

Notification to Interested Parties

This notice is issued and published pursuant to section 703(c)(2) of the Act and 19 CFR 351.205(f)(1).

Dated: July 16, 2025.
Christopher Abbott,
Deputy Assistant Secretary for Policy and Negotiations, performing the non-exclusive functions and duties of the Assistant Secretary for Enforcement and Compliance.

[FR Doc. 2025-13693 Filed 7-21-25; 8:45 am]

BILLING CODE 3510-DS-P